DEPARTMENT OF HEALTH AND HUMAN SERVICES

Centers for Disease Control and Prevention

[60Day-05AH]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-498-1210 or send comments to Sandi Gambescia, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

A Comprehensive Evaluation of an Approach to Self-Management: “Diabetes: Living My Best Life”—New—National Center for Chronic Disease Prevention and Health Promotion (NCCDPHP), Centers for Disease Control and Prevention (CDC).

Background and Brief Description: African-American women are more than twice as likely as white women to be diagnosed with diabetes, and two and one-half times as likely to die from diabetic complications. The onset of type 2 diabetes in African-American adults is attributable not only to a genetic link, but also to an unhealthy lifestyle. The vast number of African-American women with type 2 diabetes report having a sedentary lifestyle and eating a diet high in fat. In addition to taking medications, lifestyle modifications, such as changes in diet, weight loss and participating in a low-impact exercise program, can significantly reduce the complications experienced by women with type 2 diabetes. Unfortunately, there is a scarcity of training and educational materials on type 2 diabetes targeting the African-American woman. The limited availability of targeted educational materials has undoubtedly contributed to an inability to manage and control this disease in this population and has resulted in a higher prevalence of disease-related co-morbidities. There is a need for innovative interventions that can be used in a variety of settings and which feature culturally appropriate information that will engage African-American women with type 2 diabetes in a proactive role in the treatment and management of their disease.

The proposed project is the evaluation of a CD-ROM educational program: “Diabetes: Living My Best Life.” This product has been developed to teach African American women with type 2 diabetes self-management skills. Social Learning Theory (SLT) was used in the development of the product and the selection of the media elements. Selection of the information and tools was guided by input from an advisory board composed of professionals in the field and African American women with type 2 diabetes.

To evaluate this program there will be two questionnaires: a pre-test and a post-test. The two questionnaires will include questions on:

• Respondent demographic information (pre-test only).

• Respondent use of computers (pre-test only).

• Knowledge of diabetes.

• Self-efficacy in addressing diabetes self-management issues.

• Diabetes self-care activities.

• Feeling of empowerment around diabetes self-management.

• Social learning theory elements (post-test only).

Pre and post intervention data will be collected by computer. Burden estimates are based on observation of African-American women with type 2 diabetes who completed a formal pilot test of the pre and post-test forms. There are no costs to respondents except their time to participate in the survey.

Annualized Burden Table
Respondent | Number of respondents | Number of responses per respondent | Average burden per response (in hours) | Total burden (in hours)
African American women with Type 2 diabetes—Pre-test | 66 | 1 | 20/60 | 22
African American women with Type 2 diabetes—Posttest | 66 | 1 | 20/60 | 22
Total |  |  |  | 44

Dated: November 18, 2004.
Alvin Hall,
Director, Management Analysis and Services Office, Centers for Disease Control and Prevention.

[FR Doc. 04-26024 Filed 11-23-04; 8:45 am]

BILLING CODE 4163—18-P